DEPARTMENT OF ENERGY

Federal Energy Regulatory Commission

Combined Filing Notices; Notice Announcing New Combined Notice of Filings

May 13, 2005.

Effective May 17, 2005, the Commission will use a new method, Combined Notice of Filings, to issue notices of filings. Initially, this new method will apply only to electric rate filings. In time, the Commission expects to issue the majority of notices of filings using the new method. In the future, the Office of the Secretary will announce by public notice the start-up date for the new notice method with respect to other types of filings.

As a result of this initiative, the Office of the Secretary is making the following changes to the filing procedures for electric rate filings:

1. Filers are no longer required to include draft notices in floppy disk format with the filing.

2. Filers requesting a short comment period for the filing must clearly state such request in the “Re:” section of the filing, for example:

Re: Hot Spring Power Company, Docket No. ER05-_Request for shortened comment period.

The notices issued under the new method will be added to eLibrary and will be published in the Federal Register under the name “Combined Notice of Filings.” These new notices will list between 10 and 20 filings already incorporated into eLibrary. Each filing will be listed with its identifying details as follows:

Docket Number—This item will contain a hyperlink to the eLibrary docket sheet for the docket number.

Name of Applicant(s)—This item will show the applicant name as it appears on the filing.

Description—This item will contain a basic description of the filing and a hyperlink that will open the filed document in eLibrary, as stored in eLibrary.

Filing Date—This item will show the date on which the document was filed with the Commission.

Accession Number—This item will contain a hyperlink that will open the “Info” area of eLibrary for the filed document. There may be instances in which the accession number for the particular filing changes after issuance of the combined notice. In this case, the user will have to search eLibrary to access the document.

Comment Date—This item will indicate the comment date for the particular filing.

The “Combined Notice of Filings” will be indexed in eLibrary as follows, for example: “Combined Notice of Filings, May 20, 2005: This notice contains information concerning multiple filings received by FERC.” The Commission may issue more than one “Combined Notice of Filings” on any given day. In this case, the eLibrary index will read as follows, for example: “Combined Notice of Filings; May 20, 2005 No. 2: This notice contains information concerning multiple filings received by FERC.”

The Commission first announced the new “Combined Notice of Filings” during the April 13, 2004 open meeting. The “Combined Notice of Filings” is similar to the electric rate group notices that the Commission currently publishes in the Federal Register. By this initiative, the Commission seeks to simplify the manner in which the Commission's staff prepares notices and thereby expedite the public issuance of notices.

A sample “Combined Notice of Filings” is attached.

Magalie R. Salas,
Secretary.

Attachment

SAMPLE

UNITED STATES OF AMERICA

Federal Energy Regulatory Commission

NOTICE OF FILINGS

(Thursday, May 12, 2005)

Take notice that the Commission received the following electric rate filings

Docket Numbers: ER00-2603-003.

Applicants: Trigen-Syracuse Energy Corporation.

Description: Trigen-Syracuse Energy Corp advises FERC of the changes to the Triennial Market Power Update under ER00-2603.

Filed Date: 05/10/2005.

Accession Number: 20050511-0295.

Comment Date: 5 p.m. eastern time on Tuesday, May 31, 2005.

Docket Numbers: ER05-952-000.

Applicants: Western Systems Power Pool.

Description: Western Systems Power Pool, Inc requests for FERC to amend the WSPP Agreement to include the City of Corona Department of Water and Power et al as members under ER05-952.

Filed Date: 05/10/2005.

Accession Number: 20050511-0293.

Comment Date: 5 p.m. eastern time on Tuesday, May 31, 2005.

Docket Numbers: ER05-953-000.

Applicants: Phelps Dodge Power Marketing, LLC.

Description: Application for market-based rate authorization, certain waivers and blanket authorizations re Phelps Dodge Power Marketing, LLC under ER05-953.

Filed Date: 05/10/2005.

Accession Number: 20050511-0291.

Comment Date: 5 p.m. eastern time on Tuesday, May 31, 2005.

Docket Numbers: ER05-954-000.

Applicants: USGen New England, Inc.

Description: USGen New England, Inc submits a notice of cancellation of its FERC Electric Rate Tariff, Original Volume 1 under ER05-954.

Filed Date: 05/10/2005.

Accession Number: 20050511-0298.

Comment Date: 5 p.m. eastern time on Tuesday, May 31, 2005.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding to the proceeding. Anyone filing a motion to intervene or protest must serve a copy of that document on the Applicant. For filings on or before the comment deadline, it is not necessary to serve copies on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling line to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For Assistance with any FERC Online service, please e-mail FERCOnlineSupport@ferc.gov or call (866) 208-3676 (toll free). For TTY, call (202) 502-8659.

[FR Doc. E5-2570 Filed 5-20-05; 8:45 am]

BILLING CODE 6717-01-P